DEPARTMENT OF THE INTERIOR

National Park Service

National Register of Historic Places; Notification of Pending Nominations and Related Actions

Nominations for the following properties being considered for listing or related actions in the National Register were received by the National Park Service before October 17, 2009. Pursuant to section 60.13 of 36 CFR Part 60 written comments concerning the significance of these properties under the National Register criteria for evaluation may be forwarded by United States Postal Service, to the National Register of Historic Places, National Park Service, 1849 C St., NW., (2280), Washington, DC 20240; by all other carriers, National Register of Historic Places, National Park Service, 1201 Eye St., NW., 8th floor, Washington, DC 20005; or by fax, 202-371-6447. Written or faxed comments should be submitted by November 18, 2009.

J. Paul Loether,
Chief, National Register of Historic Places/National Historic Landmarks Program.

ARIZONA

Maricopa County

Hubbard, L. Ron, House, 5501 N. 44th St., Phoenix, 09000953

NEW YORK

Westchester County

Soundview Manor, 283 Soundview Ave., White Plains, 09000957

TENNESSEE

Hamilton County

Engel Stadium, O'Neal St. and E. 3rd St., Chattanooga, 09000954

First Presbyterian Church, 554 McCallie Ave., Chattanooga, 09000955

Knox County

Daylight Building, (Knoxville and Knox County MPS) 501-517 Union Ave., Knoxville, 09000956

Request for REMOVAL has been made for the following resource:

TENNESSEE

Williamson County

Thompson Store, Duplex Rd. and Lewisbery Pike, Duplex, 88000359

[FR Doc. E9-26378 Filed 11-2-09; 8:45 am]

BILLING CODE P